ENVIRONMENTAL PROTECTION AGENCY

[EPA-HQ-OECA-2006-0931; FRL-8265-2]

Agency Information Collection Activities: Submission to OMB for Review and Approval: Comment Request: National Pollution Discharge Elimination System (NPDES). Modification and Variance Requests: EPA ICR Number: 0234.09, OMB Control Number: 2080-0021

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on January 31, 2007. Before submitting the ICR to OMB for review and approval, EPA is soliciting comments on specific aspects of the proposed information collection as described below.

DATES: Comments must be submitted on or before March 5, 2007.

ADDRESSES: Submit your comments, identified by Docket ID Number: EPA-HQ-OECA-2006-0931, by one of the following methods:

• http://www.regulations.gov: Follow the online instructions for submitting comments.

• E-mail: helm.john@epa.gov.

• Fax: 202-564-0029.

• Mail: DMR-QA Permittee Data Report Form, EPA Docket Center, (EPA/DC) Environmental Protection Agency, Enforcement and Compliance Docket and Information Center, Mail Code 2201T, 1200 Pennsylvania Avenue, NW., Washington, DC 20460.

• OMB at: Office of Information and Regulatory Affairs, Office of Management and Budget (OMB). Attention: Desk Officer for EPA, 725 17th Street, NW., Washington, DC 20503.

Instruction: Direct your comments to Docket ID No EPA-HQ-OECA-2006-0931. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket visit the EPA Docket Center homepage at http://www.epa.gov/epahome/dockets.htm.)

FOR FURTHER INFORMATION CONTACT: John Helm, Office of Compliance, Laboratory Data Integrity Branch, 2225A, Environmental Protection Agency, 1200 Pennsylvania Ave., NW., Washington, DC 20460; telephone number: 202-564-4144; fax number: 202-564-0029; e-mail address: helm.john@epa.gov.

SUPPLEMENTARY INFORMATION:

How Can I Access the Docket and/or Submit Comments?

EPA has established a public docket for this ICR under Docket ID Number. EPA-HQ-OECA-2006-0931, which is available for online viewing at http://www.regulations.gov, or in-person viewing at the DMR-QA Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Docket is 202-566-1692.

Use http://www.regulations.gov to obtain a copy of the draft collection of information, submit or view public comments, access the index listing of the contents of the docket, and access those documents in the public docket that are available electronically. Once in the system, select “search,” then key in the docket ID number identified in this document.

What Information Is EPA Particularly Interested In?

Pursuant to section 3506(c))(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify in the subject line on the first page of your response the docket ID number assigned to this action. You may also provide the name, date, and Federal Register citation.

Affected entities: Entities potentially affected by this action are NPDES permitted facilities.

Abstract: Discharge Monitoring Report-Quality Assurance (DMR-QA) participation is mandatory for major and selected minor permit holders under the Clean Water Act's National Pollution Discharge Elimination System (NPDES), Section 308. The DMR-QA study is designed to evaluate the entire process used by permittes to routinely report monitoring results in Discharge Monitoring Reports (DMRs). The study addresses the analytic ability of the laboratories that perform chemical, microbiological and whole effluent toxicity (WET) analyses required in the NPDES permits and the ability to properly report these results in the DMRs. Under DMR-QA, the permit holder is responsible for obtaining un-graded results of analyses of test samples performed by in-house and/or contract laboratories, and submitting these results to the appropriate federal or state NPDES regulatory authority and the commercial proficiency testing (PT) provider that supplies the test samples. Permit holders are responsible for submitting corrective action reports to the appropriate regulatory authority.

The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Burden Statement: The annual public reporting and recordkeeping burden for this collection of information is estimated to average 4.5 hours per response. Burden means the total time, effort, or financial resources expended by persons to generate, maintain, retain, or disclose or provide information to or for a Federal agency. This includes the time needed: To review instructions; develop, acquire, install, and utilize technology and systems for the purposes of collecting, validating, verifying, in processing, maintaining, and providing information; train personnel to be able to respond to a collection of information; search data sources; complete and review the collection of information; and transmit or otherwise disclose the information.

The ICR provides a detailed explanation of the Agency's estimate, which is only briefly summarized here:

Estimated total number of potential respondents: 7516.

Frequency of response: Annual.

Estimated total average number of responses for each respondent: 1.

Estimated total annual burden hours: 27,578 hours.

Number of affected facilities is: 7,516.

Estimated total annual costs: This includes an estimated burden cost of $1,397,649, and an estimated cost of $538,554 for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact John Helm.

Dated: December 19, 2006.
Richard Colbert,
Director, Agriculture Division.

[FR Doc. E6-22479 Filed 12-29-06; 8:45 am]

BILLING CODE 6560-50-P